Title 3—

The President

Executive Order 14122 of April 12, 2024

COVID-19 and Public Health Preparedness and Response

By the authority vested in me as President by the Constitution and the laws of the United States of America, it is hereby ordered as follows:

Section 1. Policy. The Office of Pandemic Preparedness and Response Policy (OPPR), established by the Congress in December 2022 under section 2104 of Public Law 117-328, is playing a critical role in the Federal Government's pandemic preparedness efforts. The OPPR is providing advice, within the Executive Office of the President, on policy related to preparedness for, and response to, pandemic and other biological threats that may impact national security. The OPPR is also supporting my Administration's continued work to address COVID-19 and other public health threats, facilitating coordination and communication among executive departments and agencies to ensure that the United States can quickly detect, identify, and respond to such threats as necessary. At this stage of my Administration's response to COVID-19, I have determined that certain Executive Orders are no longer necessary and that certain roles and responsibilities established by other Executive Orders related to COVID-19 should be transferred to the OPPR.

Sec. 2. Revocations. Executive Order 13910 of March 23, 2020 (Preventing Hoarding of Health and Medical Resources to Respond to the Spread of COVID-19), Executive Order 13991 of January 20, 2021 (Protecting the Federal Workforce and Requiring Mask-Wearing), and Executive Order 13998 of January 21, 2021 (Promoting COVID-19 Safety in Domestic and International Travel), are hereby revoked.

Sec. 3. Transfer of Responsibilities. Responsibilities and duties of the Coordinator of the COVID-19 Response and Counselor to the President (COVID-19 Response Coordinator), including responsibilities and duties specified in Executive Order 13987 of January 20, 2021 (Organizing and Mobilizing the United States Government to Provide a Unified and Effective Response to Combat COVID-19 and to Provide United States Leadership on Global Health and Security), Executive Order 13994 of January 21, 2021 (Ensuring a Data-Driven Response to COVID-19 and Future High-Consequence Public Health Threats), and Executive Order 13996 of January 21, 2021 (Establishing the COVID-19 Pandemic Testing Board and Ensuring a Sustainable Public Health Workforce for COVID-19 and Other Biological Threats), are transferred to the Director of the OPPR. The positions of COVID-19 Response Coordinator and Deputy Coordinator of the COVID-19 Response, as established by section 2 of Executive Order 13987, are hereby terminated.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 12, 2024.

[FR Doc. 2024-08332

Filed 4-16-24; 8:45 am]

Billing code 3395-F4-P